DEPARTMENT OF VETERANS AFFAIRS

Notice of Meeting Cancellation—Correction

AGENCY: Department of Veterans Affairs.

The Department of Veterans Affairs gives notice under the Federal Advisory Committee Act, 5 U.S.C., App. 2, that a meeting of the National Research Advisory Council, previously scheduled to be held in Room 730, on December 9, 2015, at the Department of Veterans Affairs, 810 Vermont Avenue NW., Washington, DC, is hereby postponed. The Notice of Meeting appeared in the Federal Register on October 30, 2015, on page 66979. The meeting will be rescheduled.

If you have any questions, please contact Pauline Cilladi-Rehrer, Designated Federal Officer, at Pauline.Cilladi-Rehrer@va.gov, or on (202) 443-5607.

Dated: November 10, 2015.
Rebecca Schiller,
Committee Management Officer.

[FR Doc. 2015-29166 Filed 11-13-15; 8:45 am]

BILLING CODE P